DEPARTMENT OF VETERANS AFFAIRS

[OMB Control No. 2900-0779]

Agency Information Collection (Disability Benefits Questionnaires—Group 1) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 30, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0779” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0779.”

SUPPLEMENTARY INFORMATION: Titles:

a. Hematologic and Lymphatic Conditions, Including Leukemia Disability Benefits Questionnaire, VA Form 21-0960B-2.

b. Amyotrophic Lateral Sclerosis (Lou Gehrig's Disease) Disability Benefits Questionnaire, VA Form 21-0960C-2.

c. Peripheral Nerve Conditions (Not Including Diabetic Sensory-Motor Peripheral Neuropathy) Disability Benefits Questionnaire, VA Form 21-0960C-10.

d. Persian Gulf and Afghanistan Infectious Diseases Disability Benefits Questionnaire, VA Form 21-0960I-1.

e. Tuberculosis Disability Benefits Questionnaire, VA Form 21-0960I-6.

f. Kidney Conditions (Nephrology) Disability Benefits Questionnaire, VA Form 21-0960J-1.

g. Male Reproductive Organ Conditions Disability Benefits Questionnaire, VA Form 21-0960J-2.

h. Prostate Cancer Disability Benefits Questionnaire, VA Form 21-0960J-3.

l. Eating Disorders Disability Benefits Questionnaire, VA Form 21-0960P-1.

m. Mental Disorders (other than PTSD and Eating Disorders) Disability Benefits Questionnaire, VA Form 21-0960P-2.

n. Review Post Traumatic Stress Disorder (PTSD) Disability Benefits Questionnaire, VA Form 21-0960P-3.

OMB Control Number: 2900-0779.

Type of Review: Revision.

Abstract: Data collected on VA Form 21-0960 series will be used obtain information from claimants treating physician that is necessary to adjudicate a claim for disability benefits.

An agency may not conduct or sponsor, and a person is not required to respond to a collection of information unless it displays a currently valid OMB control number. The Federal Register Notice with a 60-day comment period soliciting comments on this collection of information was published on July 17, 2014, at pages 41743-41744.

Affected Public: Individuals or households.

Estimated Annual Burden: 127, 917.

Estimated Average Burden per Respondent:

a. VA Form 21-0960B-2—15 minutes.

(a) b. VA Form 21-0960C-2—30 minutes.

(b) c. VA Form 21-0960C-10—45 minutes.

(c) d. VA Form 21-0960I-1—15 minutes.

(d) e. VA Form 21-0960I-6—30 minutes.

(e) f. VA Form 21-0960J-1—30 minutes.

(f) g. VA Form 21-0960J-2—15 minutes.

(g) h. VA Form 21-0960J-3—15 minutes.

(h) l. VA Form 21-0960P-1—15 minutes.

(i) m. VA Form 21-0960P-2—30 minutes.

(j) n. VA Form 21-0960P-3—30 minutes.

Frequency of Response: On occasion.

Estimated Number of Respondents: TOTAL: 307,000.

a. VA Form 21-0960B-2—10,000.

b. VA Form 21-0960C-2—2,000.

c. VA Form 21-0960C-10—55,000.

d. VA Form 21-0960I-1—50,000.

e. VA Form 21-0960I-6—5,000.

f. VA Form 21-0960J-1—25,000.

g. VA Form 21-0960J-2—25,000.

h. VA Form 21-0960J-3—25,000.

i. VA Form 21-0960M-13—50,000.

j. VA Form 21-0960M-14—50,000.

k. VA Form 21-0960O-1—25,000.

l. VA Form 21-0960P-1—5,000.

m. VA Form 21-0960P-2—50,000.

n. VA Form 21-0960P-3—55,000.

Dated: September 25, 2014.
By direction of the Secretary:
Crystal Rennie,
Department Clearance Officer, Department of Veterans Affairs.

[FR Doc. 2014-23272 Filed 9-29-14; 8:45 am]

BILLING CODE 8320-01-P